DEPARTMENT OF HOMELAND SECURITY

Coast Guard

[Docket No. USCG-2016-1084]

Navigation and Vessel Inspection Circular (NVIC) 05-17; Guidelines for Addressing Cyber Risks at Maritime Transportation Security Act (MTSA) Regulated Facilities

AGENCY: Coast Guard, DHS.

ACTION: Notice of availability and request for comments; extension of comment period.

SUMMARY: The Coast Guard is extending the comment period for its notice of availability and request for comments, published on July 12, 2017. The notice announced the availability of the draft Navigation and Vessel Inspection Circular (NVIC) 05-17 entitled Guidelines for Addressing Cyber Risks at Maritime Transportation Security Act (MTSA) Regulated Facilities, and requested public comments on the draft. The comment period was set to close on September 11, 2017. The Coast Guard has received requests to extend the comment period by 30 days due to the conditions caused by hurricane Harvey, which prevent some members of the public from submitting comments by the original deadline.

DATES: Comments and related material must reach the Coast Guard on or before October 11, 2017.

ADDRESSES: You may submit comments identified by docket number USCG-2016-1084 using the Federal eRulemaking Portal at http://www.regulations.gov. See the “Public Participation and Request for Comments” portion of the SUPPLEMENTARY INFORMATION section of the July 12, 2017 notice for further instructions on submitting comments.

FOR FURTHER INFORMATION CONTACT: If you have questions on this notice, call or email, Jason Warren, Coast Guard; telephone 202-372-1106, email Jason.S.Warren@uscg.mil or LCDR Josephine Long, Coast Guard; telephone 202-372-1109, email Josephine.A.Long@uscg.mil.

Dated: September 5, 2017.
R.D. Manning,
Captain, U.S. Coast Guard, Chief, Office of Port and Facility Compliance.

[FR Doc. 2017-19037 Filed 9-7-17; 8:45 am]

BILLING CODE 9110-04-P